DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance”)

David I. Maurstad,
Deputy Associate Administrator for Insurance and Mitigation, Department of Homeland Security, Federal Emergency Management Agency.

State and county | Location and case No. | Chief executive officer of community | Community map repository | Date of modification | Community No.
Colorado:
Arapahoe (FEMA Docket No.: B-1840). | City of Aurora (18-08-0169P). | The Honorable Steve Hogan, Mayor, City of Aurora, 15151 East Alameda Parkway, 5th Floor, Aurora, CO 80012. | Engineering Department, 15151 East Alameda Parkway, Suite 3200, Aurora, CO 80012. | September 17, 2018 | 080002
Arapahoe (FEMA Docket No.: B-1840). | City of Centennial (18-08-0169P). | The Honorable Stephanie Piko, Mayor, City of Centennial, 13133 East Arapahoe Road, Centennial, CO 80112. | Southeast Metro Stormwater Authority, 76 Inverness Drive East, Suite A, Englewood, CO 80112. | September 17, 2018 | 080315
Arapahoe (FEMA Docket No.: B-1840). | Unincorporated areas of Arapahoe County (18-08-0169P). | The Honorable Jeff Baker, Chairman, Arapahoe County Board of Commissioners, 5334 South Prince Street, Littleton, CO 80120. | Arapahoe County Public Works and Development Department, 6924 South Lima Street, Centennial, CO 80112. | September 17, 2018 | 080011
Florida:
Alachua (FEMA Docket No.: B-1834). | Unincorporated areas of Alachua County (18-04-2705X). | The Honorable Lee Pinkoson, Chairman, Alachua County Board of Commissioners, 12 Southeast 1st Street, Gainesville, FL 32601. | Alachua County Public Works Department, 5620 Northwest 120th Lane, Gainesville, FL 32653. | September 7, 2018 | 120001
Collier (FEMA Docket No.: B-1840). | City of Naples (18-04-3246P). | The Honorable Bill Barnett, Mayor, City of Naples, 735 8th Street South, Naples, FL 34102. | Building Department, 295 Riverside Circle, Naples, FL 34102. | September 12, 2018 | 125130
Pinellas (FEMA Docket No.: B-1840). | Town of Indian Shores (18-04-2638P). | The Honorable Patrick Soranno, Mayor, Town of Indian Shores, 19305 Gulf Boulevard, Indian Shores, FL 33785. | Building Department, 19305 Gulf Boulevard, Indian Shores, FL 33785. | September 17, 2018 | 125118
Sarasota (FEMA Docket No.: B-1834). | Unincorporated areas of Sarasota County (18-04-2561P). | The Honorable Nancy Detert, Chair, Sarasota County Board of Commissioners, 1660 Ringling Boulevard, Sarasota, FL 34236. | Sarasota County Building and Development Services Department, 1001 Sarasota Center Boulevard, Sarasota, FL 34240. | September 10, 2018 | 125144
Georgia:
Catoosa (FEMA Docket No.: B-1840). | City of Fort Oglethorpe (18-04-2533P). | The Honorable Earl Gray, Mayor, City of Fort Oglethorpe, 500 City Hall Drive, Fort Oglethorpe, GA 30742. | Building, Planning and Zoning Department, 500 City Hall Drive, Fort Oglethorpe, GA 30742. | September 13, 2018 | 130248
Catoosa (FEMA Docket No.: B-1840). | Unincorporated areas of Catoosa County (18-04-2533P). | The Honorable Steven Henry, Chairman, Catoosa County Board of Commissioners, 800 Lafayette Street, Ringgold, GA 30736. | Catoosa County Planning and Inspections Department, 184 Tiger Trail, Ringgold, GA 30736. | September 13, 2018 | 130028
Mississippi:
Rankin (FEMA Docket No.: B-1840). | City of Brandon (18-04-0648P). | The Honorable Butch Lee, Mayor, City of Brandon, 1000 Municipal Drive, Brandon, MS 39042. | City Hall, 1000 Municipal Drive, Brandon, MS 39042. | September 14, 2018 | 280143
Rankin (FEMA Docket No.: B-1840). | City of Pearl (18-04-0648P). | The Honorable Jake Windham, Mayor, City of Pearl, 2420 Old Brandon Road, Pearl, MS 39208. | Community Development Department, 2420 Old Brandon Road, Pearl, MS 39208. | September 14, 2018 | 280145
New Mexico:
Bernalillo (FEMA Docket No.: B-1840). | City of Albuquerque (18-06-0370P). | The Honorable Tim Keller, Mayor, City of Albuquerque, P.O. Box 1293, Albuquerque, NM 87103. | Development Review Services Division, 600 2nd Street Northwest, Albuquerque, NM 87102. | September 12, 2018 | 350002
Bernalillo (FEMA Docket No.: B-1840). | Unincorporated areas of Bernalillo County (18-06-0370P). | Ms. Julie Morgas Baca, Bernalillo County Manager, 1 Civic Plaza Northwest, Albuquerque, NM 87102. | Bernalillo County Public Works Division, 2400 Broadway Boulevard Southeast, Albuquerque, NM 87102. | September 12, 2018 | 350001
Ohio: Warren (FEMA Docket No.: B-1840). | City of Mason (17-05-6435P). | The Honorable Victor Kidd, Mayor, City of Mason, 6000 Mason Montgomery Road, Mason, OH 45040. | City Hall, 6000 Mason Montgomery Road, Mason, OH 45040. | September 10, 2018 | 390559
Oklahoma: Tulsa (FEMA Docket No.: B-1834). | City of Tulsa (18-06-0745P). | The Honorable G.T. Bynum, Mayor, City of Tulsa, 175 East 2nd Street, 15th Floor, Tulsa, OK 74103. | Engineering Services Department, 2317 South Jackson Avenue, Tulsa, OK 74107. | September 10, 2018 | 405381
Rhode Island: Bristol (FEMA Docket No.: B-1840). | Town of Barrington (18-01-0572P). | Mr. James J. Cunha, Manager, Town of Barrington, 283 County Road, Barrington, RI 02806. | Town Hall, 283 County Road, Barrington, RI 02806. | September 6, 2018 | 445392
Texas:
Bexar (FEMA Docket No.: B-1840). | City of San Antonio (17-06-3172P). | The Honorable Ron Nirenberg, Mayor, City of San Antonio, P.O. Box 839966, San Antonio, TX 78283. | Transportation and Capital Improvements Department, Storm Water Division, 1901 South Alamo Street, 2nd Floor, San Antonio, TX 78204. | September 17, 2018 | 480045
Bexar (FEMA Docket No.: B-1840). | Unincorporated areas of Bexar County (18-06-0285P). | The Honorable Nelson W. Wolff, Bexar County Judge, 101 West Nueva Street, 10th Floor, San Antonio, TX 78205. | Bexar County Public Works Department, 233 North Pecos-La Trinidad Street, Suite 420, San Antonio, TX 78207. | September 17, 2018 | 480035
Tarrant, (FEMA Docket No.: B-1834). | City of Fort Worth (17-06-0155P). | The Honorable Betsy Price, Mayor, City of Fort Worth, 200 Texas Street, Fort Worth, TX 76102. | Transportation and Public Works, Engineering Department, 200 Texas Street, Fort Worth, TX 76102. | September 10, 2018 | 480596
Tarrant (FEMA Docket No.: B-1834). | City of Saginaw (17-06-0155P). | The Honorable Todd Flippo, Mayor, City of Saginaw 333 West McLeroy Boulevard, Saginaw, TX 76179. | Public Works and Community Development Department, 205 Brenda Lane, Saginaw, TX 76179. | September 10, 2018 | 480610
Virginia:
Prince William (FEMA Docket No.: B-1834). | City of Manassas (17-03-2321P). | Mr. William P. Pate, Manager, City of Manassas, 9027 Center Street, Suite 401, Manassas, VA 20110. | Department of Public Works and Engineering, 8500 Public Works Drive, Manassas, VA 20110. | September 13, 2018 | 510090
Prince William (FEMA Docket No.: B-1834). | Unincorporated areas of Prince William County (17-03-2321P). | Mr. Christopher E. Martino, Prince William County Executive, 1 County Complex Court, Prince William, VA 22192. | Prince William County Department of Public Works, 5 County Complex Court, Prince William, VA 22192. | September 13, 2018 | 510119
Wyoming:
Laramie (FEMA Docket No.: B-1840). | City of Cheyenne (17-08-1565P). | The Honorable Marian J. Orr, Mayor, City of Cheyenne, 2101 O'Neil Avenue, Cheyenne, WY 82001. | Engineering Department, 2101 O'Neil Avenue, Cheyenne, WY 82001. | September 10, 2018 | 560030
Teton (FEMA Docket No.: B-1840). | Town of Jackson (18-08-0346P). | The Honorable Pete Muldoon, Mayor, Town of Jackson, P.O. Box 1687, Jackson, WY 83001. | Public Works Department, 450 West Snow King Avenue, Jackson, WY 83001. | September 13, 2018 | 560052
Teton (FEMA Docket No.: B-1840). | Unincorporated areas of Teton County (18-08-0346P). | The Honorable Mark Newcomb, Chairman, Teton County Board of Commissioners, P.O. Box 3594, Jackson, WY 83001. | Teton County Public Works Department, 320 South King Street, Jackson, WY 83001. | September 13, 2018 | 560094

[FR Doc. 2018-21928 Filed 10-5-18; 8:45 am]

BILLING CODE 9110-12-P